DEPARTMENT OF DEFENSE

Department of the Army

32 CFR Part 513

Indebtedness of Military Personnel

AGENCY: Department of the Army, DoD.

ACTION: Final rule; removal.

SUMMARY: This action removes regulations concerning indebtedness of military personnel. The regulations are being removed because they are obsolete and no longer govern policies and procedures for handling debt claims against soldiers. These rules in the Army Regulation have been superseded. Program responsibility has been transferred to the Defense Finance and Accounting Services (DFAS), which directs all policy for personnel finances across the services. The removal of the regulations is part of DoD's retrospective plan under Executive Order 13563 completed in August 2011.

DATES: Effective July 22, 2013.

ADDRESSES: Department of the Army, Office of the Deputy Chief of Staff, G-1, DAPE-HR, 200 Army Pentagon, Washington, DC 20310-0300.

DoD's full retrospective plan under E.O. 13563 can be accessed at: http://exchange.regulations.gov/exchange/topic/eo-13563.

FOR FURTHER INFORMATION CONTACT: Ms. Cheryl Moman, (703) 325-0050.

SUPPLEMENTARY INFORMATION: The responsibility for this program was originally with the Department of the Army and was published as 32 CFR Part 513. The program responsibility was transferred to DFAS and now covered by Department of Defense policy and guidance codified at 32 CFR Part 112, “Indebtedness of Military Personnel,” and DoD Financial Management Review (FMR), Volume 7a, “Stoppages and Collections.” Therefore, to avoid confusion with the public, 32 CFR Part 513 is removed, which was established in the Federal Register, March 3, 1986 (51 FR 7268). Rules in the Army Regulation have been superseded by Department of Defense (DoD) policy and guidance covered in DoD Instruction 1344.09, “Indebtedness of Military Personnel,” ¹ and codified at 32 CFR Part 112, and DoD Financial Management Review (FMR), Volume 7a, “Stoppages and Collections.” ²

¹ Available online at http://www.dtic.mil/whs/directives/corres/pdf/134409p.pdf

² Available online at http://comptroller.defense.gov/fmr/archive/07aarch/07a50.pdf

List of Subjects in 32 CFR Part 513

Credit, Military personnel.

PART 513—[REMOVED]

Accordingly, for reasons stated in the preamble, under the authority of 10 U.S.C. 3012, 32 CFR part 513, Indebtedness of Military Personnel, is removed in its entirety.

Brenda S. Bowen,
Army Federal Register Liaison Officer.

[FR Doc. 2013-17490 Filed 7-19-13; 8:45 am]

BILLING CODE 3710-08-P